FEDERAL COMMUNICATIONS COMMISSION

[CC Docket No. 97-90; CCB/CPD File No. 97-12; DA 04-2055]

Requests of US West Communications, Inc. for Interconnection Cost Adjustment Mechanisms; Petition for Declaratory Ruling and Contingent Petition for Preemption

AGENCY: Federal Communications Commission.

ACTION: Notice.

SUMMARY: By this Order, the Wireline Competition Bureau dismisses without prejudice a joint Petition for Declaratory Ruling and Contingent Petition for Preemption filed by Electric Lightwave, Inc., McLeod USA Telecommunications Services, Inc., and NEXTLINE Communications, L.L.C. (Petitioners) asking the Commission to declare that the Interconnection Cost Adjustment Mechanism (ICAM) surcharges proposed by US West (now Qwest) violate the Communications Act of 1934, as amended. The petition is dismissed without prejudice unless any interested party comments within 30 days that there is still a genuine dispute that remains to be resolved.

DATES: Comments are due: September 29, 2004. Reply comments are due: October 14, 2004.

ADDRESSES: All filings must be sent to the Commission's Secretary, Marlene H. Dortch, Office of the Secretary, Federal Communications Commission, Room TW-A325, 445 Twelfth Street, SW., Washington, DC 20554. Filings may also be submitted using the Commission's Electronic Comment Filing System (ECFS) by sending an electronic file via the Internet to http://www.fcc.gov/cgb/ecfs/. Filings should reference CC Docket No. 97-90.

FOR FURTHER INFORMATION CONTACT: Julie Saulnier, Wireline Competition Bureau, Pricing Policy Division, (202) 418-1530.

SUPPLEMENTARY INFORMATION: The Order dismisses without prejudice joint Petitioners' request that the Commission declare that the ICAM surcharges proposed by US West (now Qwest) in each of the fourteen states in which it provides telecommunications services violate the cost-based interconnection standards of the Communications Act of 1934, as amended. The Order also dismisses Petitioners' request that the Commission initiate proceedings to preempt any state commission action allowing US West to implement ICAM surcharges. Qwest never pursued recovery of interconnection costs through ICAM surcharges, instead recovering them through a separate unbundled network element operations support system charge or a local interconnection service charge. Therefore, there appears to be no remaining controversy, and the petition is dismissed without prejudice unless any interested party provides notice within 30 days that there is still a genuine dispute that remains to be resolved.

This is a summary of the Bureau's Order in CC Docket No. 97-90, adopted on July 9, 2004. The complete text of the Order is available for public inspection Monday through Thursday from 8 a.m. to 4:30 p.m. and Friday from 8:00 a.m. to 11:30 a.m. in the Commission's Consumer and Governmental Affairs Bureau, Reference Information Center, Room CY-A257, 445 Twelfth Street, SW., Washington, DC 20554. The complete text is available also on the Commission's Internet site at http://www.fcc.gov. Alternative formats are available to persons with disabilities by contacting Brian Millin at (202) 418-7426 or TTY (202) 418-7365. The complete text of the Order may be purchased from the Commission's duplicating contractor, Best Copying and Printing, Inc., Room CY-B402, 445 Twelfth Street, SW., Washington, DC 20554, telephone (202) 488-5300, facsimile (202) 488-5563 or e-mail at http://www.bcpiweb.com.

Federal Communications Commission
Jeffrey J. Carlisle,
Chief, Wireline Competition Bureau.

[FR Doc. 04-19746 Filed 8-27-04; 8:45 am]

BILLING CODE 6712-01-P